DEPARTMENT OF JUSTICE

[OMB Number 1121-NEW1]

Agency Information Collection Activities; Proposed eCollection eComments Requested; New; Juvenile Facility Census Program (JFCP)

AGENCY: Office of Justice Programs, Department of Justice.

ACTION: 30-Day notice.

SUMMARY: The National Institute of Justice, Office of Justice Programs (OJP), Department of Justice (DOJ), will be submitting the following information collection request (ICR) to the Office of Management and Budget (OMB) for review and approval in accordance with the Paperwork Reduction Act of 1995 (PRA).

DATES: Comments are encouraged and will be accepted for 30 days until September 12, 2024.

FOR FURTHER INFORMATION CONTACT: If you have comments especially on the estimated public burden or associated response time, suggestions, or need a copy of the proposed information collection instrument with instructions or additional information, please contact: Benjamin Adams, Supervisory Social Science Analyst, National Institute of Justice, 810 Seventh Street NW, Washington, DC 20531 (email: benjamin.adams@usdoj.gov; telephone: 202-616-3687).

SUPPLEMENTARY INFORMATION: The proposed information collection was previously published in the Federal Register on May 21, 2024, allowing a 60-day comment period (89 FR 44709). Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number [1121-NEW1]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: New.

2. Title of the Form/Collection: Juvenile Facility Census Program (JFCP).

3. Agency form number, if any, and the applicable component of the Department of Justice sponsoring the collection: The form numbers are CJ-14 (CJRP) and CJ-15 (JRFC). The applicable components within the Department of Justice are the National Institute of Justice and the Office of Juvenile Justice and Delinquency Prevention, in the Office of Justice Programs.

4. Affected public who will be asked or required to respond, as well as a brief abstract: State, local and tribal governments, individuals or households, and Private Sector-for or not for profit institutions.

Abstract: This request for clearance of the Juvenile Facility Census Program (JFCP) will combine two previously, separately cleared data collections: the Census of Juveniles in Residential Placement (OMB # 1121-0218) and the Juvenile Residential Facility Census (OMB # 1121-0219). The Census of Juveniles in Residential Placement (CJRP), which is administered biennially, collects information from all secure and nonsecure residential placement facilities that house persons younger than age 21 who are held in a residential setting as a result of some contact with the juvenile justice system for an offense. This encompasses both status offenses and delinquency offenses, and includes youth who are either temporarily detained by the court or committed after adjudication for an offense. The CJRP collects information on the characteristics of the youth held for an offense, including offense and demographics, and information on their placement, including adjudication status and length of stay. The Juvenile Residential Facility Census (JRFC), which is administered biennially in the years the CJRP is not administered, collects information about how juvenile facilities operate, the services they provide, and staff training from all secure and nonsecure residential placement facilities that house persons younger than 21 who are held for an offense. The information gathered in these national collections will be used in published reports and statistics. The reports will be made available to the U.S. Congress, Executive Office of the President, practitioners, researchers, students, the media, others interested in juvenile residential facilities, and the general public via the OJP agency websites. The two data collections are being combined into a single clearance packet because they are closely related and designed to be complementary. They are drawn from the same frame, are administered to the same respondents with identical eligibility criteria, have the same reference day, and use the same mode of collection. The collection administrations are deliberately sequenced and scheduled for alternating years because of the complementary nature of the information and overlap in respondents. Additionally, each collections' imputation procedures rely upon information from the other collection, and for some longitudinal analyses, data from both collections are combined to produce published statistics.

5. Obligation to Respond: Voluntary.

6. Total Estimated Number of Respondents: The total estimated respondents is 1,569 for each collection for each year.

7. Estimated Time per Respondent: It takes an average of 4 hours to complete the CJRP. The total burden for the CJRP is 6,844 hours. It takes an average of 2 hours to complete the JRFC. The total burden for the JRFC is 3,422 hours.

8. Frequency: The CJRP and JRFC are each administered biennially in alternating years.

9. Total Estimated Annual Time Burden: The average annual burden is 5,703 hours or 17,110 total hours for the 2025 CJRP, 2026 JRFC, and 2027 CJRP.

10. Total Estimated Annual Other Costs Burden: The estimated annual cost for CJRP and JRFC is $633,054 each. The estimated cost for both collections is $1,266,108 annually.

If additional information is required, contact: Darwin Arceo, Department Clearance Officer, Policy and Planning Staff, Justice Management Division, United States Department of Justice, Two Constitution Square, 145 N Street NE, 4W-218, Washington, DC 20530.

Dated: August 8, 2024.
Darwin Arceo,
Department Clearance Officer for PRA, U.S. Department of Justice.

[FR Doc. 2024-18011 Filed 8-12-24; 8:45 am]

BILLING CODE 4410-23-P